DEPARTMENT OF THE INTERIOR

Fish and Wildlife Service

[FWS-R2-ES-2012-N249; FXES11130200000-134-FF02ENEH00]

Endangered and Threatened Species Permit Applications

AGENCY: Fish and Wildlife Service, Interior.

ACTION: Notice of receipt of applications; request for public comment.

SUMMARY: We, the U.S. Fish and Wildlife Service, invite the public to comment on the following applications to conduct certain activities with endangered or threatened species. The Endangered Species Act of 1973, as amended (Act), prohibits activities with endangered and threatened species unless a Federal permit allows such activities. The Act and the National Environmental Policy Act also require that we invite public comment before issuing these permits.

DATES: To ensure consideration, written comments must be received on or before December 21, 2012.

ADDRESSES: Marty Tuegel, Section 10 Coordinator, by U.S. mail at Division of Endangered Species, U.S. Fish and Wildlife Service, P.O. Box 1306, Room 6034, Albuquerque, NM at (505) 248-6920. Please refer to the respective permit number for each application when submitting comments.

FOR FURTHER INFORMATION CONTACT: Susan Jacobsen, Chief, Endangered Species Division, P.O. Box 1306, Albuquerque, NM 87103; (505) 248-6651.

SUPPLEMENTARY INFORMATION:

Public Availability of Comments

The Act (16 U.S.C. 1531 et seq.) prohibits activities with endangered and threatened species unless a Federal permit allows such activities. Along with our implementing regulations in the Code of Federal Regulations (CFR) at 50 CFR 17, the Act provides for permits, and requires that we invite public comment before issuing these permits. A permit granted by us under section 10(a)(1)(A) of the Act authorizes applicants to conduct activities with U.S. endangered or threatened species for scientific purposes, enhancement of survival or propagation, or interstate commerce. Our regulations regarding implementation of section 10(a)(1)(A) permits are found at 50 CFR 17.22 for endangered wildlife species, 50 CFR 17.32 for threatened wildlife species, 50 CFR 17.62 for endangered plant species, and 50 CFR 17.72 for threatened plant species.

Applications Available for Review and Comment

We invite local, State, Tribal, and Federal agencies, and the public to comment on the following applications. Please refer to the appropriate permit number (e.g., Permit No. TE-123456) when requesting application documents and when submitting comments.

Documents and other information the applicants have submitted with these applications are available for review, subject to the requirements of the Privacy Act (5 U.S.C. 552a) and Freedom of Information Act (5 U.S.C. 552).

Permit TE-85077A

Applicant: ZARA Environmental, Inc., Manchaca, Texas.

Applicant requests a new permit for research and recovery purposes to conduct presence/absence surveys of the following species within Texas:

• Barton Springs salamander (Eurycea sosorum)

• Bee Creek Cave harvestman (Texella reddelli)

• Black-capped vireo (Vireo atricapilla)

• Bone Cave harvestman (Texella reyesi)

• Braken Bat Cave meshweaver (Cicurina venii)

• Coffin Cave mold beetle (Batrisodes texanus)

• Cokendolpher Cave harvestman (Texella cokendolpheri)

• Comal Springs dryopid beetle (Stygoparnus comalensis)

• Comal Springs riffle beetle (Heterelmis comalensis)

• Golden-cheeked warbler (Dendroica chrysoparia)

• Government Canyon Bat Cave meshweaver (Cicurina vespera)

• Government Canyon Bat Cave spider (Neoleptoneta microps)

• Ground beetle (Rhadine exilis)

• Ground beetle (Rhadine infernalis)

• Helotes mold beetle (Batrisodes venyivi)

• Kretschmarr Cave mold beetle (Texamaurops reddelli)

• Madla Cave meshweaver (Cicurina madla)

• Peck's Cave amphipod (Stygobromus pecki)

• Robber Baron Cave meshweaver (Cicurina baronia)

• San Marcos salamander (Eurycea nana)

• Texas blind salamander (Typhlomolge rathbuni)

• Tooth Cave ground beetle (Rhadine persephone)

• Tooth Cave pseudoscorpion (Tartarocreagris texana)

• Tooth Cave spider (Neoleptoneta (=Leptoneta) myopica)

Permit TE-103076

Applicant: Transcon Environmental, Mesa, Arizona.

Applicant requests an amendment to a current permit for research and recovery purposes to conduct presence/absence surveys of southwestern willow flycatcher (Empidonax traillii extimus) within California, Colorado, Nevada, New Mexico, and Texas.

Permit TE-798998

Applicant: Horizon Environmental Services, Inc., Austin, Texas.

Applicant requests an amendment to a current permit for research and recovery purposes to allow handling and relocating of interior least tern (Sternula antillarum athalassos) chicks during constructions projects for Texas Department of Transportation projects within Red River County, Texas and McCurtain County, Oklahoma.

Permit TE-815409

Applicant: New Mexico Department of Game and Fish, Santa Fe, New Mexico.

Applicant requests an amendment to a current permit for research and recovery purposes to conduct presence/absence surveys, camera surveys, scat collection, and genetic analysis for jaguar (Pathera onca) within New Mexico.

Permit TE-88512A

Applicant: New Mexico Department of Transportation—Environmental Bureau, Santa Fe, New Mexico.

Applicant requests a new permit for research and recovery purposes to conduct presence/absence surveys of southwestern willow flycatcher (Empidonax traillii extimus) within New Mexico.

Permit TE-205904

Applicant: Heritage Environmental Consultants, Denver, Colorado.

Applicant requests a renewal to a current permit for research and recovery purposes to conduct presence/absence surveys of black-footed ferret (Mustela nigripes) within Arizona, New Mexico, Colorado, Utah, Wyoming, Kansans and Nebraska; Preble's meadow jumping mouse (Zapus hudonius preblei) within Colorado; and southwestern willow flycatcher (Empidonax traillii extimus) within New Mexico and Arizona.

Permit TE-88519A

Applicant: U.S. Forest Service Lincoln National Forest, Alamogordo, New Mexico.

Applicant requests a new permit for Sacramento prickly-poppy (Aregemone pinnatisecta) to collect, store, and transport seeds, plant materials, and whole plants; establish a seed production garden; establish educational displays; establish a seed production plot in cooperation with Los Lunas Plant Materials Center; grow individuals for transport to the Los Lunas Plant Materials Center; and transplant cultivated plants and seed within potential range on Forest Service lands within New Mexico.

Permit TE-205717

Applicant: Valerie Collins, San Antonio, Texas.

Applicant requests a renewal to a current permit for research and recovery purposes to conduct presence/absence surveys of the following species within Texas:

• Bee Creek Cave harvestman (Texella reddelli)

• Black-capped vireo (Vireo atricapilla)

• Bone Cave harvestman (Texella reyesi)

• Braken Bat Cave meshweaver (Cicurina venii)

• Coffin Cave mold beetle (Batrisodes texanus)

• Cokendolpher Cave harvestman (Texella cokendolpheri)

• Golden-cheeked warbler (Dendroica chrysoparia)

• Government Canyon Bat Cave meshweaver (Cicurina vespera)

• Government Canyon Bat Cave spider (Neoleptoneta microps)

• Ground beetle (Rhadine exilis)

• Ground beetle (Rhadine infernalis)

• Helotes mold beetle (Batrisodes venyivi)

• Houston toad (Bufo houstonensis)

• Interior least tern (Sterna antillarum)

• Jaguarundi (Herpailurus yagouaroundi)

• Kretschmarr Cave mold beetle (Texamaurops reddelli)

• Madla's Cave meshweaver (Cicurina madla)

• Northern aplomado falcon (Falco femoralis)

• Ocelot (Leopardus pardalis)

• Piping plover (Charadrius melodus)

• Red-cockaded woodpecker (Picoides borealis)

• Robber Baron Cave meshweaver (Cicurina baronia)

• Texas trailing phlox (Phlox nivalis ssp. texensis)

• Tooth Cave ground beetle (Rhadine persephone)

• Tooth Cave pseudoscorpion (Tartarocreagris texana)

• Tooth Cave spider (Neoleptoneta (=Leptoneta) myopica)

Permit TE-89061A

Applicant: Arizona State University of Life Sciences, Tempe, Arizona.

Applicant requests a new permit for research and recovery purposes for Kearney's blue state (Amsonia kearneyana) to conduct presence/absence surveys, conduct microclimate analysis, and to germinate in the wild with seed donated by Desert Botanical Garden (Phoenix, Arizona) within Brown Canyon, Pima County, Arizona.

National Environmental Policy Act (NEPA)

In compliance with NEPA (42 U.S.C. 4321 et seq.), we have made an initial determination that the proposed activities in these permits are categorically excluded from the requirement to prepare an environmental assessment or environmental impact statement (516 DM 6 Appendix 1, 1.4C(1)).

Public Availability of Comments

All comments and materials we receive in response to this request will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Authority: We provide this notice under section 10 of the Act (16 U.S.C. 1531 et seq.).

Dated: November 15, 2012.
Michelle Shaughnessy,
Regional Director, Southwest Region.

[FR Doc. 2012-28287 Filed 11-20-12; 8:45 am]

BILLING CODE 4310-55-P